DEPARTMENT OF ENERGY

Federal Energy Regulatory Commission

Combined Notice of Filings # 1

April 09, 2008.

Take notice that the Commission received the following electric rate filings:

Docket Numbers: ER97-2872-005; ER97-4234-076.

Applicants: Central Hudson Gas & Electric Corp.

Description: Central Hudson Gas and Electric Corp submits Substitute First Revised Sheet 1 and 2 to FERC Electric Tariff, First Revised Volume 1 in compliance with Order 697.

Filed Date: 04/04/2008.

Accession Number: 20080408-0021.

Comment Date: 5 p.m. Eastern Time on Monday, April 14, 2008.

Docket Numbers: ER99-2284-009; ER99-1773-009; ER99-1761-005; ER00-1026-016; ER01-1315-005; ER01-2401-011; ER98-2184-014; ER98-2186-015; ER00-33-011; ER05-442-003; ER98-2185-014; ER99-1228-007; ER97-2904-008; ER01-751-010.

Applicants: AEE 2 LLC; AES Creative Resources LP; AES Eastern Energy, LP; Indianapolis Power & Light Company; AES IRONWOOD LLC; AES RED OAK LLC; AES Huntington Beach, L.L.C.; AES Redondo Beach, L.L.C.; AES Placerita Inc.; Condon Wind Power, LLC; AES Alamitos, Inc.; Storm Lake Power Partners II LLC; Lake Benton Power Partners LLC; Mountain View Power Partners, LLC.

Description: The AES MBR Affiliates submits notice of change in status in connection with the indirect acquisition by AES of Mountainview Power Partners, LLC.

Filed Date: 04/04/2008.

Accession Number: 20080408-0046.

Comment Date: 5 p.m. Eastern Time on Friday, April 25, 2008.

Docket Numbers: ER00-2268-026; ER99-4124-023; ER99-4122-027; ER07-428-005; EL07-82-002.

Applicants: Pinnacle West Capital Corporation; Arizona Public Service Company; Aps Energy Services Co Inc; Pinnacle West Marketing & Trading Co, LLC; Pinnacle West Capital Corporation.

Description: Arizona Public Service Company submits an errata and Substitute Second Revised Sheet 2, FERC Electric Tariff, Fifth Revised Volume 3 to the compliance filing previously filed on 3/17/08.

Filed Date: 04/04/2008.

Accession Number: 20080408-0022.

Comment Date: 5 p.m. Eastern Time on Friday, April 25, 2008.

Docket Numbers: ER03-9-010; ER98-2157-011.

Applicants: Westar Energy, Inc., Kansas Gas and Electric Company.

Description: Notice of Change in Status of Westar Energy, Inc., and Kansas Gas and Electric Company.

Filed Date: 04/08/2008.

Accession Number: 20080408-5049.

Comment Date: 5 p.m. Eastern Time on Tuesday, April 29, 2008.

Docket Numbers: ER08-717-001.

Applicants: Tucson Electric Power Company.

Description: Tucson Electric Power Company submits an executed “Control Area Services Agreement with UNS Electric Inc dated 3/20/08.

Filed Date: 04/08/2008.

Accession Number: 20080409-0074.

Comment Date: 5 p.m. Eastern Time on Tuesday, April 29, 2008.

Docket Numbers: ER08-747-000.

Applicants: Beaver Ridge Wind, LLC.

Description: Beaver Ridge Wind, LLC submits a Petition for Acceptance of Initial Rate Schedule, Waivers and Blanket Authority.

Filed Date: 03/31/2008.

Accession Number: 20080401-0094.

Comment Date: 5 p.m. Eastern Time on Monday, April 21, 2008.

Docket Numbers: ER08-796-000.

Applicants: ITC Midwest LLC.

Description: ITC Midwest, LLC submits a proposed Attachment FF Section III.A.2.d.3 International/METC/ITC Midwest to their Open Access Transmission and Energy Markets Tariff.

Filed Date: 04/04/2008.

Accession Number: 20080408-0043.

Comment Date: 5 p.m. Eastern Time on Friday, April 25, 2008.

Docket Numbers: ER08-797-000.

Applicants: HEEP Fund Inc.

Description: HEEP Fund, Inc requests acceptance of its FERC Electric Rate Schedule 1 etc.

Filed Date: 04/04/2008.

Accession Number: 20080408-0042.

Comment Date: 5 p.m. Eastern Time on Friday, April 25, 2008.

Docket Numbers: ER08-798-000.

Applicants: American Electric Power Service Corporation.

Description: Ohio Power Co and Columbus Southern Power Co submits first revision to the Interconnection Agreement with American Transmission Systems, Inc.

Filed Date: 04/07/2008.

Accession Number: 20080408-0044.

Comment Date: 5 p.m. Eastern Time on Monday, April 28, 2008.

Docket Numbers: ER08-799-000.

Applicants: Consolidated Edison Co. of New York, Inc.

Description: Consolidated Edison Company of New York, Inc submits a Master Services Agreement and associated Transaction Forms.

Filed Date: 04/07/2008.

Accession Number: 20080408-0045.

Comment Date: 5 p.m. Eastern Time on Monday, April 28, 2008.

Docket Numbers: ER08-801-000.

Applicants: Berkshire Power Company, LLC.

Description: Berkshire Power Company LLC submits their proposed revisions to their Rate Schedule FERC 2 to reflect the merger of one party to the rate schedule with Shell Energy North America LP.

Filed Date: 04/07/2008.

Accession Number: 20080409-0076.

Comment Date: 5 p.m. Eastern Time on Monday, April 28, 2008.

Docket Numbers: ER08-802-000.

Applicants: PJM Interconnection, L.L.C.

Description: PJM Interconnection LLC submits an executed interconnection service agreement and an executed construction service agreement with Cogentrix Virginia Leasing Company et al.

Filed Date: 04/07/2008.

Accession Number: 20080409-0075.

Comment Date: 5 p.m. Eastern Time on Monday, April 28, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-8748 Filed 4-22-08; 8:45 am]

BILLING CODE 6717-01-P